DEPARTMENT OF AGRICULTURE

Forest Service

Intent To Renew the Northwest Forest Plan Area Advisory Committee

AGENCY: Forest Service, United States Department of Agriculture (USDA).

ACTION: Notice of intent to renew the Charter for the Northwest Forest Plan Area Advisory Committee.

SUMMARY: In accordance with the Federal Advisory Committee Act (FACA), as amended, the United States Department of Agriculture announces its intent to renew the Charter for the Northwest Forest Plan Area Advisory Committee (Committee). The Charter for the Northwest Forest Plan Area Advisory Committee is being renewed so that the Committee may provide continued advice and recommendations on landscape management approaches and implementation of such approaches that promote sustainability, climate change adaptations, and wildfire resilience while providing for increasing use of and demands from National Forest System lands in the Northwest Forest Plan area. The Committee will be governed by the provisions of FACA. Duration of the Committee is for two years unless renewed by the Secretary of Agriculture.

ADDRESSES: USDA Forest Service, 1220 Southwest 3rd Avenue, Ste. G015, Portland, OR 97204. Committee information can also be found on the Northwest Forest Plan Federal Advisory Committee website at https://www.fs.usda.gov/detail/r6/landmanagement/planning/?cid=fseprd1076013 or by contacting the person listed under FOR FURTHER INFORMATION CONTACT.

FOR FURTHER INFORMATION CONTACT: Inquiries may be sent to Ann Eberhart Goode, U.S. Department of Agriculture, Forest Service, by phone at (707) 562-8738 or email at ann.goode@usda.gov or Delaney Caslow, U.S. Department of Agriculture, Forest Service, by phone at (503) 804-3545 or email at delaney.caslow@usda.gov. Individuals who use telecommunications devices for the hearing impaired may call 711 to reach the Telecommunications Relay Service, 24 hours a day, every day of the year, including holidays.

SUPPLEMENTARY INFORMATION: In accordance with the provisions of the Federal Advisory Committee Act (FACA), as amended (5 U.S.C. app. 2), with the concurrence of the General Services Administration (GSA), and subject to the approval of the Secretary of Agriculture, the USDA Forest Service intends to renew the Federal Advisory Committee for sustainable, climate-adapted, wildfire-resilient landscapes across the Northwest Forest Plan (NWFP) area. The Committee will be a discretionary advisory committee. The Committee will operate under the provisions of the FACA and will report to the Secretary of Agriculture through the Chief of the Forest Service. The purpose of the Committee is to provide advice and recommendations on landscape management approaches and implementation of such approaches that promote sustainability, climate change adaptations, and wildfire resilience while providing for increasing use of and demands from National Forest System lands in the NWFP area. Accordingly, the Committee will be asked to perform the following duties or fulfill other requests made by the Secretary of Agriculture or the Chief of the Forest Service by offering recommendations on:

1. Planning and implementation options that complement the national Wildfire Crisis Strategy to assist the USDA Forest Service to transition to greater proactive wildfire risk reduction and address key obstacles related to existing vegetation management.

2. Approaches to address the dynamic nature of ecosystems, utilize adaptive management, monitoring, and integration of future uncertainty into land management planning.

3. Application of the best available science regarding the following primary issues: (a) the ecological importance of old forests; (b) climate change, fire, and associated disturbance processes; (c) terrestrial and aquatic reserved land use allocations and the relationship between the two; (d) the climatic diversity of forests encompassed by the NWFP area; and (e) habitat connectivity at multiple scales in light of changed conditions.

4. Incorporation of traditional ecological knowledge and indigenous perspectives and values into Federal forest planning and management.

5. Communication tools and strategies to: (a) help provide greater understanding of landscape or programmatic level planning and implementation options and requirements and (b) enhance outreach efforts, public engagement, meaningful Tribal consultation and participation, targeted outreach to underserved communities, and stakeholder collaboration within the scope of the Committee.

6. Issue preliminary discrete recommendations in sequence with Forest Service NWFP planning and implementation timelines.

All deliverables will be submitted to the Designated Federal Official (DFO) at USDA Forest Service, 1220 Southwest 3rd Avenue, Ste. G015, Portland, OR 97204.

The Committee will meet approximately four to six times annually or as often as necessary and at such times as designated by the DFO. Subcommittees may meet more frequently. Attendance may be in-person, by telephone, or by other electronic means. Meetings of the Committee whether in person, by telephone or electronic means shall be announced 15 calendar days in advance in the Federal Register. As required by the FACA, the Committee will hold open meetings unless the Secretary determines that a meeting or a portion of a meeting may be closed to the public in accordance with subsection C of section 522(b) of title 5, United States Code. All proceedings and relevant documents will be posted and made accessible to the public. No individual who is currently registered as a Federal lobbyist is eligible to serve as a member of the Committee.

Overview and Membership

The Committee will be comprised of up to 23 members approved by the Secretary of Agriculture, and each will serve a two-year term. The Committee membership will be fairly balanced in terms of the points of view represented and functions to be performed. Members of the Committee will serve without compensation but may be reimbursed for travel expenses while performing duties on behalf of the Committee, subject to approval by the DFO and the Department. The Committee should represent to the extent possible, a balance across the three states covered by the NWFP (Oregon, Washington, and California) and reflect the demographic diversity of the NWFP area. The Committee shall include representation from experts in the following interest areas:

(1) Science: Up to 9 members who represent the scientific community, and have an understanding in the following disciplines and how they relate to the NWFP area:

(a) Forest ecology

(b) Vegetation management

(c) Fire ecology

(d) Terrestrial wildlife ecology

(e) Aquatic and riparian ecosystems and species

(f) Climate change

(g) Social science

(h) Adaptive management and planning

(i) Indigenous Traditional Ecological Knowledge (ITEK) practitioners

(2) Organizations: Up to 8 members who represent a broad array of organizations with an interest in NWFP forests:

(a) National, regional, or local conservation organizations with staff and active programs in the Pacific Northwest

(b) Forest products industry

(c) Recreation organization

(d) Organization involved in outreach with underserved communities

(e) Forest collaborative groups

(f) Wildlife organization

(g) Watershed organization

(3) Government and public: Up to 6 members who represent governmental entities or the public at large:

(a) Member of the affected public at large

(b) Represent state governments

(c) Represent counties

(d) Represent American Indian Tribes

Meeting locations will be compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section or contact USDA's TARGET Center at (202) 720-2600 (voice and TTY) or USDA through the Federal Relay Service at (800) 877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA policies shall be followed in all membership appointments to the Committee. To ensure that the recommendations of the Committee have taken into account the needs of the diverse groups served by USDA, membership shall include, to the extent practicable, individuals with demonstrated ability to represent the many communities, identities, races, ethnicities, backgrounds, abilities, cultures, and beliefs of the American people, including underserved communities. Persons with disabilities who require alternative means of communication for program information (Braille, large print, audiotape, American Sign Language, etc.) should contact the responsible agency or USDA's TARGET Center at (202) 720-2600 (voice and TTY) or contact USDA through the Federal Relay Service at (800) 877-8339. Additionally, program information may be made available in languages other than English. USDA is an equal opportunity provider, employer, and lender.

Dated: November 21, 2024.
Cikena Reid,
USDA Committee Management Officer.

[FR Doc. 2024-27781 Filed 11-26-24; 8:45 am]

BILLING CODE 3411-15-P